DEPARTMENT OF ENERGY

Federal Energy Regulatory Commission

[Docket No. RP05-164-000]

Equitrans, L.P.; Notice of Technical Conference

March 8, 2005.

Take a notice that the Commission will convene a technical conference on Tuesday, March 22, 2005, at 10 a.m., in a room to be designated at the offices of the Federal Energy Regulatory Commission, 888 First Street, NE., Washington DC 20426.

The purpose of the Commission is to discuss the issues raised by Equitrans' proposed Rate Schedule Appalachian Gathering Service (AGS), and the deletion of Rate Schedules Interruptible Gathering Service (IGS) and Appalachian Pooling Service (APS) and Equitrans' proposal's compliance with Order Nos. 637 and 587, as well as any other non-rate issues the parties raised with respect to Rate Schedule AGS. The Commission directed its staff to convene this technical conference in a February 28, 2005 Order establishing a technical conference.¹

¹ Equitrans, L.P., 110 FERC ¶ 61,194 (2005).

FERC conferences are accessible under section 508 of the Rehabilitation Act of 1973. For accessibility accommodations please send an e-mail to accessibility@ferc.gov or call toll free (866) 208-3372 (voice) or (202) 208-01659 (TTY), or send a FAX to (202) 208-2106 with the required accommodations.

All interested persons are permitted to attend. For further information please contact Christy Walsh at (202) 502-6523 or e-mail christy.walsh@ferc.gov.

Linda Mitry,
Deputy Secretary.

[FR Doc. E5-1071 Filed 3-14-05; 8:45 am]

BILLING CODE 6717-01-P